DEPARTMENT OF ENERGY

Federal Energy Regulatory Commission

Combined Notice of Filings #2

Take notice that the Commission received the following electric rate filings:

Docket Numbers: ER11-4595-000.

Applicants: Palmco Power OH, LLC.

Description: Palmco Power OH, LLC submits tariff filing per 35.1: Palmco Power OH FERC Electric Tariff to be effective 9/22/2011.

Filed Date: 09/22/2011.

Accession Number: 20110922-5030.

Comment Date: 5 p.m. Eastern Time on Thursday, October 13, 2011.

Docket Numbers: ER11-4596-000.

Applicants: South Carolina Electric & Gas Company.

Description: South Carolina Electric & Gas Company submits tariff filing per 35.13(a)(2)(iii: Attachment C—Revision for Clarification to be effective 9/22/2011.

Filed Date: 09/22/2011.

Accession Number: 20110922-5032.

Comment Date: 5 p.m. Eastern Time on Thursday, October 13, 2011.

Docket Numbers: ER11-4597-000.

Applicants: KeyTex Energy, LLC.

Description: KeyTex Energy, LLC submits tariff filing per 35.1: KeyTex Energy, LLC MBR Re-Filing to be effective 9/22/2011.

Filed Date: 09/22/2011.

Accession Number: 20110922-5034.

Comment Date: 5 p.m. Eastern Time on Thursday, October 13, 2011.

Docket Numbers: ER11-4598-000.

Applicants: PJM Interconnection, LLC.

Description: PJM Interconnection, LLC submits tariff filing per 35.13(a)(2)(iii: Queue No. W3-126; Original Service Agreement No. 3066 to be effective 8/24/2011.

Filed Date: 09/22/2011.

Accession Number: 20110922-5051.

Comment Date: 5 p.m. Eastern Time on Thursday, October 13, 2011.

Docket Numbers: ER11-4599-000.

Applicants: PJM Interconnection, LLC.

Description: PJM Interconnection, LLC submits tariff filing per 35.13(a)(2)(iii: Queue No. W3-032; Original Service Agreement No. 3062 to be effective 8/30/2011.

Filed Date: 09/22/2011.

Accession Number: 20110922-5053.

Comment Date: 5 p.m. Eastern Time on Thursday, October 13, 2011.

Docket Numbers: ER11-4600-000.

Applicants: Moguai Energy LLC.

Description: Moguai Energy LLC submits tariff filing per 35.1: Baseline 714 compliance to be effective 9/22/2011.

Filed Date: 09/22/2011

Accession Number: 20110922-5055.

Comment Date: 5 p.m. Eastern Time on Thursday, October 13, 2011.

Docket Numbers: ER11-4601-000.

Applicants: Avista Corporation.

Description: Avista Corporation submits tariff filing per 35.12: Avista Corp Rate Schedule FERC No. 528 to be effective 10/1/2011.

Filed Date: 09/22/2011.

Accession Number: 20110922-5061.

Comment Date: 5 p.m. Eastern Time on Thursday, October 13, 2011.

Docket Numbers: ER11-4602-000.

Applicants: IDT Energy, Inc.

Description: IDT Energy, Inc. submits tariff filing per 35.1: Market-Based Rate Tariff Baseline to be effective 9/22/2011.

Filed Date: 09/22/2011.

Accession Number: 20110922-5085.

Comment Date: 5 p.m. Eastern Time on Thursday, October 13, 2011.

Docket Numbers: ER11-4603-000.

Applicants: Monterey Consulting Associates, Inc.

Description: Monterey Consulting Associates, Inc. submits tariff filing per 35.1: Market Based Rates Re-file to be effective 9/22/2011.

Filed Date: 09/22/2011.

Accession Number: 20110922-5086.

Comment Date: 5 p.m. Eastern Time on Thursday, October 13, 2011.

Docket Numbers: ER11-4604-000.

Applicants: Thicksten Grimm Burgum, Inc.

Description: Thicksten Grimm Burgum, Inc. submits tariff filing per 35.1: Market Based Rates Re-file to be effective 9/22/2011.

Filed Date: 09/22/2011.

Accession Number: 20110922-5087.

Comment Date: 5 p.m. Eastern Time on Thursday, October 13, 2011.

Docket Numbers: ER11-4605-000.

Applicants: Forest Investment Group, LLC..

Description: Forest Investment Group, LLC submits tariff filing per 35.1: Forest Investment Group Baseline Filing to be effective 9/22/2011.

Filed Date: 09/22/2011.

Accession Number: 20110922-5089

Comment Date: 5 p.m. Eastern Time on Thursday, October 13, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 22, 2011.
Nathaniel J. Davis, Sr.,
Deputy Secretary.

[FR Doc. 2011-25335 Filed 9-30-11; 8:45 am]

BILLING CODE 6717-01-P